DEPARTMENT OF DEFENSE

Office of the Secretary

[Docket ID: DoD-2021-OS-0076]

Privacy Act of 1974; System of Records

AGENCY: Department of Defense Human Resources Activity (DHRA), Department of Defense (DoD).

ACTION: Notice of a new system of records.

SUMMARY: In accordance with the Privacy Act of 1974, DoD is establishing a new system of records titled “Survey Data and Assessment,” DHRA 03. In alignment with the Office of People Analytics (OPA) strategic mission, the system provides key metrics to meet the requirement of the Under Secretary of Defense (Personnel and Readiness) Human Resources Strategic Plan. The system facilitates the development of key strategic indicators on personnel career plans, retention decisions, morals, and commitments, and historically provide the ability to evaluate the impact of policies and programs with regards to readiness and retention.

DATES: This system of records is effective upon publication; however, comments on the Routine Uses will be accepted on or before August 27, 2021. The Routine Uses are effective at the close of the comment period.

ADDRESSES: You may submit comments, identified by docket number and title, by either of the following methods:

Federal Rulemaking Portal: https://www.regulations.gov.

Follow the instructions for submitting comments.

Mail: DoD cannot receive written comments at this time due to the COVID-19 pandemic. Comments should be sent electronically to the docket listed above.

Instructions: All submissions received must include the agency name and docket number for this Federal Register document. The general policy for comments and other submissions from members of the public is to make these submissions available for public viewing on the internet at https://www.regulations.gov as they are received without change, including any personal identifiers or contact information.

FOR FURTHER INFORMATION CONTACT: Ms. Jessica M. Levin, DHRA Component Privacy Officer, 4800 Mark Center Drive, Suite 08F05, Alexandria, VA 22350; dodhra.mc-alex.dhra-hq.mbx.privacy@mail.mil or 571-372-1964.

SUPPLEMENTARY INFORMATION:

I. Background

The Survey Data and Assessment, DHRA 03, system of records maintains data about individuals who completed DoD-sponsored survey questionnaires or participated in DoD-sponsored focus group data collections, including military members, military spouses, civilians, persons eligible for DoD benefits (including retirees), and Service Academy students. It also maintains data about individuals involved in market research studies, including men and women of military age, and applicants to the military services.

This system of records uses this information to assess characteristics of DoD personnel and households to support manpower and benefits research; to assess DoD personnel attitudes, opinions, and or experiences related to social issues; and to assess attitudes toward joining the military and reasons for leaving. This information is used to provide the DoD with fast, accurate assessments of the attitudes and opinions of the entire DoD community in order to evaluate existing programs/policies, establish baseline measures before implementing new programs/policies, and monitor the progress of programs/policies and their effects on the total force.

DoD SORNs have been published in the Federal Register and are available from the address in FOR FURTHER INFORMATION CONTACT or at the Defense Privacy, Civil Liberties, and Transparency Division website at https://dpcld.defense.gov/privacy.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, DPCLTD has provided a report of this system of records to the OMB and to Congress.

Dated: July 21, 2021.
Aaron T. Siegel,
Alternate OSD Federal Register Liaison Officer, Department of Defense.

SYSTEM NAME AND NUMBER:

Survey Data and Assessment, DHRA 03.

SECURITY CLASSIFICATION:

Unclassified.

SYSTEM LOCATION:

Department of Defense Human Resources Activity, 4800 Mark Center Drive, Alexandria, VA 22350; Defense Manpower Data Center, 400 Gigling Road, Seaside, CA 93944; Data Recognition Corporation (DRC), 3490 Bass Lake Rd., Maple Grove, MN 55311; and Fors Marsh Group, 1010 N Glebe Rd., Unit 51, Arlington, VA 22201.

SYSTEM MANAGER(S):

Director, Office of People Analytics, 4800 Mark Center Drive, Suite 06E25, Alexandria, VA 22350, contactOPA@mail.mil, 571-372-0727.

AUTHORITY FOR MAINTENANCE OF THE SYSTEM:

10 U.S.C. 136, Under Secretary of Defense for Personnel and Readiness; 10 U.S.C. 481, Racial and ethnic issues; gender issues: Surveys; 10 U.S.C. 503(a), Enlistments: Recruiting campaigns; 10 U.S.C. 1782, Surveys of military families; 10 U.S.C. 2358, Research and development projects; Section 572 of Public Law 112-239, National Defense Authorization Act for Fiscal Year 2013, DoD Instruction (DoDI) 1100.13, DoD Surveys; DoDI 1332.14, Enlisted Administrative Separations; DoDI 1332.30, Commissioned Officer Administrative Separations; DoDI 5505.18, Investigation of Adult Sexual Assault in the Department of Defense; DoDI 6945.02, Volume 1, Sexual Assault Prevention and Response (SAPR): Program Procedures.

PURPOSE(S) OF THE SYSTEM:

To maintain information collected by DoD through surveys, focus groups, and other information collection methodologies, in order to (1) assess characteristics of DoD personnel and households to support manpower and benefits research; (2) assess DoD personnel attitudes, opinions, and/or experiences related to social issues; and (3) assess attitudes toward joining the military and reasons for leaving. This system of records supports the collection of fast, accurate assessments of the attitudes and opinions of the entire DoD community in order to evaluate existing programs/policies, establish baseline measures before implementing new programs/policies, and monitor progress of programs/policies and their effects on the total force. The data is also used to support manpower research sponsored by DoD and the military services. Survey results provide direct feedback on key Departmental strategic indicators. These indicators provide primary data on personnel career plans, discrimination, sexual harassment/assault, suicide ideation, retention decisions, morale, and commitment, and historically provide the ability to evaluate the impact of policies and programs with regard to readiness and retention. The surveys also serve as benchmarks by which senior DoD officials can track trends over time.

CATEGORIES OF INDIVIDUALS COVERED BY THE SYSTEM:

Individuals who completed survey questionnaires or participated in focus group data collections, including Service members, Service member spouses, civilians, persons eligible for DoD benefits (including retirees), and Service Academy students; individuals involved in market research studies, including men and women of military age, and applicants to the military services.

CATEGORIES OF RECORDS IN THE SYSTEM:

A. Individual's identifying and demographic data, such as name, gender, marital status, birth date, race/ethnicity, citizenship; contact information, such as personal/work address, email, and phone numbers; education information; employment information (military or civilian organization) such as rank, date of rank, date entered service, pay grade, title/occupational series, duty position; number and age of dependents; and unique survey ID number.

B. Survey responses may also include: Attitudes and opinions on satisfaction with leadership, reasons to join the military, military way of life, use of programs and services, and experiences related to sexual harassment, sexual assault, race/ethic discrimination, hazing, bullying, and retaliation. Defense Equal Opportunity Climate Survey (DEOCS) survey results also include DoD ID Numbers.

RECORD SOURCE CATEGORIES:

The survey information is provided by the individual. Additional data is obtained from the following DoD datasets: Active Duty Personnel Master File, Reserve Components Common Personnel Data System (RCCPDS), Active Duty Family File, Basic Allowance for Housing Population Edit Master File, Unit Identification Code (UIC) Address File, Defense Enrollment Eligibility Reporting System (DEERS) Point In Time Extract, DEERS Point In Time Medical Extract, DEERS Database Extract, and Contingency Tracking System Deployment File, Appropriated Fund Civilian Personnel Master Edit File, Civilian Pay File, Reserve Address File, Reserve Family File, Reserve Pay File, Non-Appropriated Funds Civilian File, Active Duty Pay File, and the Active Duty Service File.

ROUTINE USES OF RECORDS MAINTAINED IN THE SYSTEM, INCLUDING CATEGORIES OF USERS AND PURPOSES OF SUCH USES:

In addition to those disclosures generally permitted under 5 U.S.C. 552a(b) of the Privacy Act of 1974, as amended, the records contained herein may be disclosed outside the DoD as a routine use pursuant to 5 U.S.C. 552a(b)(3) as follows:

A. To contractors, grantees, experts, consultants, students, and other performing or working on a contract, service, grant, cooperative agreement, or other assignment for the federal government when necessary to accomplish an agency function related to this system of records.

B. To the appropriate Federal, State, local, territorial, tribal, foreign, or international law enforcement or other appropriate entity where a record, either alone or in conjunction with other information, indicates a violation or potential violation of law, whether criminal, civil or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To such recipients and under such circumstances and procedures as are mandated by Federal statute or treaty.

J. To other Federal agencies in order to support manpower research sponsored by DoD and those agencies.

POLICIES AND PRACTICES FOR STORAGE OF RECORDS:

Records may be stored electronically or on paper in secure facilities in a locked drawer behind a locked door. The records may be stored on magnetic disc, tape, or digital media; in agency-owned cloud environments; or in vendor Cloud Service Offerings certified under the Federal Risk and Authorization Management Program (FedRAMP). To maintain confidentiality of survey responses, DoD ID numbers or other direct identifiers are never stored in the same database as survey responses, but are maintained in bridge files with access only limited to a small number of Office of People Analytics staff.

POLICIES AND PRACTICES FOR RETRIEVAL OF RECORDS:

Records can be retrieved using an OPA survey bridge file that contains DoD ID Number and survey ID number. Each survey participant is assigned a survey ID number. Retrievals are only made in compliance with all privacy, human subject protections, and Confidentiality Certificates requirements.

POLICIES AND PRACTICES FOR RETENTION AND DISPOSAL OF RECORDS:

A. Master file, system documentation, codebooks, record layouts, and other system documentation. Permanent, cut off on completion of the report for the DoD office requiring the creation of the report. Transfer master file and system documentation to NARA at cutoff in accordance with standards of 36 CFR 1228.270 and 36 CFR 1234.

B. Hard copy survey questionnaires (inputs/source records). Temporary. Destroy after computer records have been created and validated.

C. Summary reports (electronic or paper). Temporary. Delete/destroy when no longer needed for operational purposes.

ADMINISTRATIVE, TECHNICAL, AND PHYSICAL SAFEGUARDS:

Records are maintained in controlled areas accessible only to authorized personnel. Access to personal information is further restricted by the use of Common Access Card and user ID/passwords. Paper records are maintained in a controlled facility where physical entry is restricted by the use of locks, a card access control system, staffed reception areas, and cameras inside and outside which monitor all doors. Technical controls in place are user identification and passwords, Intrusion Detection System, encryption, firewalls, Virtual Private Networks, and Public Key Infrastructure Certificates. Administrative controls in place are periodic security audits, ensuring only authorized personnel have access to PII, encryption of backups containing sensitive data, and securing backups off-site. Additionally, to maintain confidentiality of survey responses, DoD ID numbers or other direct identifiers are never stored in the same database as survey responses, but are maintained in bridge files with access only limited to a small number of Office of People Analytics staff.

RECORD ACCESS PROCEDURES:

Individuals seeking access their records should follow the procedures in 32 CFR part 310. Individuals should address written inquiries to the Office of the Secretary of Defense/Joint Staff, Freedom of Information Act Requester Service Center, Office of Freedom of Information, 1155 Defense Pentagon, Washington, DC 20301. Signed written request should contain individual's full name, DoD ID Number and current address and telephone number of the individual. In addition, the requester must provide a notarized statement or an unsworn declaration made in accordance with 28 U.S.C. 1746, in the following format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents and appealing initial agency determinations are contained in 32 CFR part 310.

NOTIFICATION PROCEDURES:

The DoD rules for accessing records, contesting contents, and appealing initial Component determinations are contained in 32 CFR part 310, or may be obtained from the system manager.

EXEMPTIONS PROMULGATED FOR THE SYSTEM:

None.

HISTORY:

October 02, 2007, 72 FR 56062.

[FR Doc. 2021-16054 Filed 7-27-21; 8:45 am]

BILLING CODE 5001-06-P